DEFENSE NUCLEAR FACILITIES SAFETY BOARD

Sunshine Act Meeting; New Time and Date of Proceeding

AGENCY: Defense Nuclear Facilities Safety Board.

ACTION: Notice of Public Meeting and Hearing; New Time and Date.

SUMMARY: The Defense Nuclear Facilities Safety Board (Board) published a document in the Federal Register of August 13, 2013, (78 FR 49262), concerning notice of intent to convene a public meeting and hearing on October 22, 2013, at the Knoxville Convention Center, 701 Henley Street, Knoxville, Tennessee 37902 with regard to safety-related matters at defense nuclear facilities at the Y-12 National Security Complex. Due to the lapse in appropriations and subsequent federal government shutdown, the Board decided to postpone the meeting and hearing to a future date. The Board was unable to publish notice of the postponement in the Federal Register due to the shutdown. The Board has now decided on a new time and date for the proceeding. There is no change to the hearing location or the matters to be considered that were originally described in the Board's August 13, 2013, notice cited above.

NEW TIME AND DATE OF HEARING AND MEETING: Session I: 8:00 a.m.-12:00 p.m., December 10, 2013; Session II: 2:00 p.m.-6:00 p.m., December 10, 2013.

CONTACT PERSON FOR MORE INFORMATION: Mark Welch, Acting General Manager, Defense Nuclear Facilities Safety Board, 625 Indiana Avenue NW., Suite 700, Washington, DC 20004-2901, (800) 788-4016. This is a toll-free number.

Dated: November 6, 2013.
Peter S. Winokur,
Chairman.

[FR Doc. 2013-27049 Filed 11-8-13; 8:45 am]

BILLING CODE 3670-01-P